DEPARTMENT OF LABOR

Employment and Training Administration

[TA-W-51,433]

Kingston Technology, Fountain Valley, California; Notice of Termination of Investigation

Pursuant to section 221 of the Trade Act of 1974, as amended, an investigation was initiated on April 7, 2003, in response to a petition filed on behalf of workers at Kingston Technology, Fountain Valley, California.

The petitioner has requested that the petition be withdrawn. Consequently, the investigation has been terminated.

Signed in Washington, DC, this 8th day of May, 2003.
Richard Church,
Certifying Officer, Division of Trade Adjustment Assistance.

[FR Doc. 03-12563 Filed 5-19-03; 8:45 am]

BILLING CODE 4510-30-P